DEPARTMENT OF TRANSPORTATION

Surface Transportation Board

[STB Finance Docket No. 34715]

R.J. Corman Railroad Property, LLC—Acquisition Exemption—Line of The Railroad Co. and The WV Southern Railway Co.

R.J. Corman Railroad Property, LLC (Railroad Property),¹ a Class III rail carrier, has filed a verified notice of exemption under 49 CFR 1150.41 to acquire from The Railroad Co. (RRC) and The WV Southern Railway Co. (WVSR), a line of railroad (the Loup Creek Branch) extending from milepost 0.0 at Thurmond, WV, to milepost 12.0 at Mt. Hope, WV, a distance of approximately 12 miles. The Loup Creek Branch is currently owned by RRC and operated by WVSR, a wholly owned subsidiary of RRC.²

¹ Railroad Property is a member of the R.J. Corman family of nine Class III railroads. Railroad Property was formerly known as R.J. Corman Equipment Company, LLC. The name of that entity was formally changed to R.J. Corman Railroad Property, LLC, and its non-rail assets were transferred to a new noncarrier entity named R.J. Corman Equipment Company. As a result, the new “Equipment Company” does not own any railroad assets, and Railroad Property holds the railroad assets and bears the residual common carrier obligations of the “old” R.J. Corman Equipment Company, LLC.

² According to Railroad Property, it has reached an agreement with RRC, WVSR and CSX Transportation, Inc. (CSXT), the former owner of the Loup Creek Branch, for transfer of the Loup Creek Branch to Railroad Property. RRC will simultaneously transfer title to the real estate underlying the Loup Creek Branch right-of-way to CSXT, and Railroad Property will lease the underlying real estate from CSXT.

This transaction is related to STB Finance Docket No. 34716, R.J. Corman Railroad Company/Bardstown Line, d/b/a R.J. Corman Railroad Company/WV Lines—Lease Exemption—Line of R.J. Corman Railroad Property, LLC, in which R.J. Corman Railroad Company/Bardstown Line, d/b/a R.J. Corman Railroad Company/WV Lines seeks to lease from Railroad Property and operate the Loup Creek Branch.

Railroad Property certifies that the projected annual revenues as a result of this transaction will not result in the creation of a Class II or Class I rail carrier, and further certifies that its projected annual revenues will not exceed $5 million.

The transaction was scheduled to be consummated on July 8, 2005.

If the notice contains false or misleading information, the exemption is void ab initio. Petitions to revoke the exemption under 49 U.S.C. 10502(d) may be filed at any time. The filing of a petition to revoke will not automatically stay the transaction.

An original and 10 copies of all pleadings, referring to STB Finance Docket No. 34715, must be filed with the Surface Transportation Board, 1925 K Street, N.W., Washington, DC 20423-0001. In addition, one copy of each pleading must be served on Ronald A. Lane, Fletcher & Sippel LLC, 29 North Wacker Drive, Suite 920, Chicago, IL 60606-2832.

Board decisions and notices are available on our Web site at http://www.stb.dot.gov.

Decided: July 22, 2005.
By the Board, David M. Konschnik, Director, Office of Proceedings.
Vernon A. Williams,
Secretary.

[FR Doc. 05-15010 Filed 7-28-05; 8:45 am]

BILLING CODE 4915-01-P